DEPARTMENT OF TRANSPORTATION

Federal Aviation Administration

14 CFR Part 39

[Docket No. FAA-2024-2663; Project Identifier MCAI-2023-00200-R]

RIN 2120-AA64

Airworthiness Directives; Airbus Helicopters

AGENCY: Federal Aviation Administration (FAA), DOT.

ACTION: Notice of proposed rulemaking (NPRM).

SUMMARY: The FAA proposes to adopt a new airworthiness directive (AD) for certain Airbus Helicopters Model EC225LP helicopters. This proposed AD was prompted by the identification of missing electrical bonding on a certain part-numbered additional and optional search light (search light). This proposed AD would require installing an electrical bonding braid modification and prohibit installing that part-numbered search light unless the modification is done. These actions are specified in a European Union Aviation Safety Agency (EASA) AD, which is proposed for incorporation by reference. The FAA is proposing this AD to address the unsafe condition on these products.

DATES: The FAA must receive comments on this NPRM by February 6, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2663; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Pkwy., Room 6N 321, Fort Worth, TX 76177. For information on the availability of this material at the FAA, call (817) 222-5110. It is also available at regulations.gov under Docket No. FAA-2024-2663.

FOR FURTHER INFORMATION CONTACT: Kurt Ladendorf, Aviation Safety Engineer, FAA, 1600 Stewart Avenue, Suite 410, Westbury, NY 11590; phone: (817) 222-5254; email: Kurt.D.Ladendorf@faa.gov.

SUPPLEMENTARY INFORMATION:

Comments Invited

The FAA invites you to send any written relevant data, views, or arguments about this proposal. Send your comments to an address listed under ADDRESSES. Include “Docket No. FAA-2024-2663; Project Identifier MCAI-2023-00200-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kurt Ladendorf, Aviation Safety Engineer, FAA, 1600 Stewart Avenue, Suite 410, Westbury, NY 11590; phone: (817) 222-5254; email: Kurt.D.Ladendorf@faa.gov. Any commentary that the FAA receives which is not specifically designated as CBI will be placed in the public docket for this rulemaking.

Background

EASA, which is the Technical Agent for the Member States of the European Union, has issued EASA AD 2023-0030, dated February 2, 2023 (EASA AD 2023-0030) (also referred to as the MCAI), to correct an unsafe condition on Airbus Helicopters Model EC 225 LP helicopters, except helicopters having Airbus Helicopters modification MC29201 embodied in production. The MCAI states missing electrical bonding was identified on a certain part-numbered search light installed on some Model EC 225 LP helicopters. The MCAI further states that the location where the search light is installed is an area that could get struck by lightning, which, in case of a lightning strike, could lead to potential total loss of electrical distribution, with loss of electrically supplied systems, and subsequent reduced control of the helicopter.

The FAA is proposing this AD to address the unsafe condition on these products. You may examine the MCAI in the AD docket at regulations.gov under Docket No. FAA-2024-2663.

Material Incorporated by Reference Under 1 CFR Part 51

EASA AD 2023-0030 requires installing an electrical bonding braid modification for a certain part-numbered search light under the sponson. EASA AD 2023-0030 also prohibits installing that part-numbered search light from being installed unless its requirements are met.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in EASA AD 2023-0030, described previously, as incorporated by reference, except for any differences identified as exceptions in the regulatory text of this proposed AD and except as discussed under “Differences Between this Proposed AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0030 by reference in the FAA final rule. This proposed AD would, therefore, require compliance with EASA AD 2023-0030 in its entirety through that incorporation, except for any differences identified as exceptions in the regulatory text of this proposed AD. Using common terms that are the same as the heading of a particular section in EASA AD 2023-0030 does not mean that operators need comply only with that section. For example, where the AD requirement refers to “all required actions and compliance times,” compliance with this AD requirement is not limited to the section titled “Required Action(s) and Compliance Time(s)” in EASA AD 2023-0030. Material referenced in EASA AD 2023-0030 for compliance will be available at regulations.gov under Docket No. FAA-2024-2663 after the FAA final rule is published.

Differences Between This Proposed AD and the MCAI

The MCAI allows a +10% tolerance to the calendar compliance time to install the electrical bonding braid modification, whereas this proposed AD would not allow that tolerance. If the insulation resistance value is 8 or more ohms as a result of the continuity test that is specified in the material referenced in EASA AD 2023-0030, this proposed AD would require accomplishing corrective action in accordance with a method approved by the FAA, EASA, or Airbus Helicopters' EASA Design Organization Approval, whereas the MCAI and the material referenced in the MCAI are not specific about the continuity test.

Costs of Compliance

The FAA estimates that this AD, if adopted as proposed, would affect 9 helicopters of U.S. Registry. Labor rates are estimated at $85 per work-hour. Based on these numbers, the FAA estimates the following costs to comply with this proposed AD.

Installing an electrical bonding braid modification would take 14 work-hours and parts would cost $16,370 for an estimated cost of $17,560 per helicopter and up to $158,040 for the U.S. fleet.

Performing a continuity test would take a minimal amount of time for a nominal cost. Depending on the results, corrective action could vary significantly from helicopter to helicopter. The FAA has no data to determine the costs to accomplish the corrective action.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2024-2663; Project Identifier MCAI-2023-00200-R.

(a) Comments Due Date

The FAA must receive comments on this airworthiness directive (AD) by February 6, 2025.

(b) Affected ADs

None.

(c) Applicability

This AD applies to Airbus Helicopters Model EC225LP helicopters, certificated in any category, as identified in European Union Aviation Safety Agency AD 2023-0030, dated February 2, 2023 (EASA AD 2023-0030).

(d) Subject

Joint Aircraft System Component (JASC) Code: 1420, electrical connectors; and 2497, electrical power system wiring.

(e) Unsafe Condition

This AD was prompted by the identification of missing electrical bonding on additional and optional search lights. The FAA is issuing this AD to prevent a lightning current evacuating to the aircraft structure. In the event of a lightning strike, the unsafe condition, if not addressed, could result in potential total loss of electrical distribution, with loss of electrically supplied systems, and subsequent reduced control of the helicopter.

(f) Compliance

Comply with this AD within the compliance times specified, unless already done.

(g) Requirements

Except as specified in paragraphs (h) and (i) of this AD: Comply with all required actions and compliance times specified in, and in accordance with, EASA AD 2023-0030.

Note 1 to paragraph (g): Appendix 4 of Airbus Helicopters Alert Service Bulletin No. EC225-33A018, dated December 15, 2023, which is referenced in EASA AD 2023-0030, identifies helicopter configurations (right-hand column of the table) by helicopter serial number (left-hand column of the table).

(h) Exceptions to EASA AD 2023-0030

(1) Where EASA AD 2023-0030 requires compliance in terms of flight hours, this AD requires using hours time-in-service.

(2) Where EASA AD 2023-0030 refers to its effective date, this AD requires using the effective date of this AD.

(3) Where Note 1 of EASA AD 2023-0030 specifies that a tolerance of +10% may be applied to the calendar compliance time specified in paragraph (1) of EASA AD 2023-0030, this AD does not allow that tolerance.

(4) Where the material referenced in EASA AD 2023-0030 specifies discarding parts, this AD requires removing those parts from service.

(5) This AD requires replacing text as specified in paragraphs (h)(5)(i) though (v) of this AD.

(i) Where the material referenced in EASA AD 2023-0030 specifies to “do the electrical bonding,” this AD requires replacing that text with “install the electrical bonding braid.”

(ii) Where the material referenced in EASA AD 2023-0030 specifies to “bond the labels “741VN” and “742VN” of the set of labels (8) as close as possible from the equipment (SECTION A-A and B-B),” this AD requires replacing that text with “apply labels “741VN” and “742VN” of the set of labels (8) directly adjacent to the grounding point as depicted in Figure 6, Section A-A and Section B-B.”

(iii) Where the material referenced in EASA AD 2023-0030 specifies to “remove and keep,” this AD requires replacing that text with, “remove.”

(iv) Where the material referenced in EASA AD 2023-0030 specifies to “locate the hole (A) in accordance to the position,” this AD requires replacing that text with “determine the position of hole (A) in Figure 4, Detail B.”

(v) Where the material referenced in EASA AD 2023-0030 specifies to paint strip the hole on “the both face,” this AD requires replacing the text “the both face” with “each side.”

(6) Where the material referenced in EASA AD 2023-0030 specifies to do a continuity test, if the insulation resistance value is 8 or more ohms as a result of the continuity test, this AD requires, before further flight, accomplishing corrective action in accordance with a method approved by the Manager, International Validation Branch, FAA; or EASA; or Airbus Helicopters' EASA Design Organization Approval (DOA). If approved by the DOA, the approval must include the DOA-authorized signature.

(7) This AD does not adopt the “Remarks” section of EASA AD 2023-0030.

(i) No Reporting Requirement

Although the material referenced in EASA AD 2023-0030 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: AMOC@faa.gov.

(2) Before using any approved AMOC, notify your appropriate principal inspector, or lacking a principal inspector, the manager of the local flight standards district office/certificate holding district office.

(k) Related Information

(1) For more information about this AD, contact Kurt Ladendorf, Aviation Safety Engineer, FAA, 1600 Stewart Avenue, Suite 410, Westbury, NY 11590; phone: (817) 222-5254; email: Kurt.D.Ladendorf@faa.gov.

(2) For Airbus Helicopters material identified in this AD that is not incorporated by reference, contact Airbus Helicopters, 2701 North Forum Drive, Grand Prairie, TX 75052; phone: (972) 641-0000 or (800) 232-0323; fax: (972) 641-3775; website: airbus.com/en/products-services/helicopters/hcare-services/airbusworld.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) European Union Aviation Safety Agency (EASA) AD 2023-0030, dated February 2, 2023.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 16, 2024.
Victor Wicklund,
Deputy Director, Compliance & Airworthiness Division, Aircraft Certification Service.

[FR Doc. 2024-30374 Filed 12-20-24; 8:45 am]

BILLING CODE 4910-13-P